DEPARTMENT OF HEALTH AND HUMAN SERVICES

National Institutes of Health

Submission for OMB Review; 30-Day Comment Request: Customer and Other Partners Satisfaction Surveys

SUMMARY: Under the provisions of Section 3507(a)(1)(D) of the Paperwork Reduction Act of 1995, the National Institutes of Health Clinical Center (CC) has submitted to the Office of Management and Budget (OMB) a request for review and approval of the information collection listed below. This proposed information collection was previously published in the Federal Register on November 6, 2013, pp. 66750-66751, and allowed 60-days for public comment. No public comments were received. The purpose of this notice is to allow an additional 30 days for public comment. The National Institutes of Health Clinical Center (CC), National Institutes of Health, may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

Comment Due Date: Comments regarding this information collection are best assured of having their full effect if received within 30 days of the date of this publication.

FOR FURTHER INFORMATION CONTACT: To obtain a copy of the data collection plans and instruments, or request more information on the proposed project, contact Dr. David K. Henderson, Deputy Director for Clinical Care, National Institutes of Health Clinical Center, Building 10, Room 6-1480, 10 Center Drive, Bethesda, Maryland 20892, or call non-toll free: 301-496-3515, or email your request or comments, including your address to: < dkh@nih.gov >. Formal requests for additional plans and instruments must be requested in writing.

Proposed Collection: Title: Generic Clearance for Surveys of Customers and Other Partners, 0925-0458, Expiration Date 12/31/2013, Type of Submission: REINSTATEMENT WITHOUT CHANGE, National Institutes of Health Clinical Center (CC), National Institutes of Health (NIH).

Need and Use of Information Collection: The information collected in these surveys will be used by Clinical Center personnel: (1) To evaluate the perceptions of various Clinical Center customers and other partners of Clinical Center services; (2) to assist with the design of modifications of these services, based on customer input; (3) to develop new services, based on customer need; (4) to evaluate the perceptions of various Clinical Center customers and other partners of implemented service modifications, and (5) for hospital accreditation. These surveys are voluntary and necessary for the proper performance of Clinical Center functions and will almost certainly lead to quality improvement activities that will enhance and/or streamline the Clinical Center's operations. The major mechanisms by which the Clinical Center will request customer input is through surveys and focus groups. The surveys will be tailored specifically to each class of customer and to that class of customer's needs. Surveys will either be collected as written documents, as faxed documents, mailed electronically or collected via the web or by telephone from customers. Information gathered from these surveys of Clinical Center customers and other partners will be presented to, and used directly by, Clinical Center management to enhance the services and operations of our organization.

OMB approval is requested for 3 years. There are no costs to respondents other than their time. The total estimated annualized burden hours are 4,900.

Estimated Annualized Burden Hours
Type of respondent | Number of respondents | Number of responses per respondent | Average time per response (in hours) | Total annual hour burden
FY 2014
Clinical Center Patients | 5000 | 1 | 30/60 | 2500
Family Members of Patients | 2000 | 1 | 30/60 | 1000
Visitors to the Clinical Center | 500 | 1 | 10/60 | 84
NIH Intramural Collaborators | 2000 | 1 | 10/60 | 334
Vendors and Collaborating Commercial Enterprises | 500 | 1 | 20/60 | 167
Professionals and Organizations Referring Patients | 2000 | 1 | 20/60 | 667
Regulators | 30 | 1 | 20/60 | 10
Volunteers | 275 | 1 | 30/60 | 138
FY 2015
Clinical Center Patients | 5000 | 1 | 30/60 | 2500
Family Members of Patients | 2000 | 1 | 30/60 | 1000
Visitors to the Clinical Center | 500 | 1 | 10/60 | 84
NIH Intramural Collaborators | 2000 | 1 | 10/60 | 334
Vendors and Collaborating Commercial Enterprises | 500 | 1 | 20/60 | 167
Professionals and Organizations Referring Patients | 2000 | 1 | 20/60 | 667
Regulators | 30 | 1 | 20/60 | 10
Volunteers | 275 | 1 | 30/60 | 138
FY 2016
Clinical Center Patients | 5000 | 1 | 30/60 | 2500
Family Members of Patients | 2000 | 1 | 30/60 | 1000
Visitors to the Clinical Center | 500 | 1 | 10/60 | 84
NIH Intramural Collaborators | 2000 | 1 | 10/60 | 334
Vendors and Collaborating Commercial Enterprises | 500 | 1 | 20/60 | 167
Professionals and Organizations Referring Patients | 2000 | 1 | 20/60 | 667
Regulators | 30 | 1 | 20/60 | 10
Volunteers | 275 | 1 | 30/60 | 138

Dated: January 14, 2014.
David K. Henderson,
Deputy Director for Clinical Care, CC, National Institutes of Health.

[FR Doc. 2014-01343 Filed 1-22-14; 8:45 am]

BILLING CODE 4140-01-P